GENERAL SERVICES ADMINISTRATION

41 CFR Part 102-3

[Notice-MA-2025-06; Docket No. 2025-0002; Sequence 4]

Federal Management Regulation; Federal Advisory Committee Management; Planned Revision

AGENCY: Office of Government-wide Policy (OGP), General Services Administration (GSA).

ACTION: Notification of upcoming revision of FMR Case 2022-01.

SUMMARY: GSA plans to issue a final rule revising the Federal Management Regulation (FMR) Case 2022-01, “Federal Advisory Committee Management,” published on April 18, 2024.

DATES: April 16, 2025.

ADDRESSES: Those interested can view FMR Case 2022-01 at https://www.regulations.gov/document/GSA-FMR-2022-0015-0001.

FOR FURTHER INFORMATION CONTACT: Ms. Lorelei Kowalski, Director, Committee Management Secretariat, Office of Asset and Transportation Management, Office of Government-wide Policy, at 202-208-6035 or email at lorelei.kowalski@gsa.gov. Please cite Notice of Revision of FMR Case 2022-01.

SUPPLEMENTARY INFORMATION: GSA plans to revise FMR Case 2022-01 (FR Doc. 2024-08215 (89 FR 27673, April 18, 2024)) consistent with Executive Order (E.O.) 14148 of January 20, 2025, titled “Initial Rescissions of Harmful Executive Orders and Actions,” E.O. 14192 of January 31, 2025, titled “Unleashing Prosperity Through Deregulation,” and E.O. 14219 on February 19, 2025, titled “Ensuring Lawful Governance and Implementing the President's “Department of Government Efficiency” Deregulatory Initiative.” GSA will amend the FMR to apply these revisions to the Federal Advisory Committee Management regulation in order to align the regulation with current Administration priorities, improve Federal advisory committee management policies and processes, remove unnecessary language and information, and reduce (or eliminate where possible) unnecessary administrative burdens on executive branch agencies and departments.

Larry Allen,
Associate Administrator, Office of Government-wide Policy.

[FR Doc. 2025-06180 Filed 4-15-25; 8:45 am]

BILLING CODE 6820-14-P